DEPARTMENT OF AGRICULTURE

Submission for OMB Review; Comment Request

January 21, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 245 Determining Eligibility for Free and Reduced Price Meals.

OMB Control Number: 0584-0026.

Summary of Collection: The Richard B. Russell National School Lunch Act (NSLA), as amended, authorizes the National School Lunch Program (NSLP). 7 CFR part 245, Determining Eligibility for Free and Reduced Price Meals and Free Milk in Schools, sets forth policies and procedures for implementing these provisions. Part 245 requires schools operating the NSLP to determine children's eligibility for free and reduced-price lunches on the basis of each child's household income and size, and to establish operating procedures that will prevent physical segregation, or other discrimination against, or overt identification of children unable to pay the full price for meals or milk.

Need and Use of The Information: FNS will collect information to determine eligibility of children for free and reduced price meals and for free milk using form FNS-742. Without the information, inaccurate eligibility information could lead to over and/or under payments to State and local agencies.

Description of Respondents: Individuals or household; Not-for-profit institutions; State, Local, or Tribal Government.

Number of Respondents: 9,507,375.

Frequency of Responses: Recordkeeping; Reporting: Monthly; Annually.

Total Burden Hours: 1,073,432.

Food and Nutrition Service

Title: Quality Control Review Schedule.

OMb Control Number: 0584-0299.

Summary of Collection: States agencies are required to perform Quality Control (QC) review for the Supplemental Nutrition Assistance Program (SNAP). The FNS-380-1, Quality Control Review Schedule is for State use to collect both QC data and case characteristics for SNAP and to serve as the comprehensive data entry form for SNAP QC reviews. The legislative basis for the operation of the QC system is provided by Section 16 of the Food and Nutrition Act of 2008.

Need and Use of the Information: The Food and Nutrition Service (FNS) will collect information to monitor and reduce errors, develop policy strategies, and analyze household characteristic data. In addition, FNS will use the data to determine sanctions and bonus payments based on error rate performance, and to estimate the impact of some program changes to SNAP participation and costs by analyzing the available household characteristic data.

Description of Respondents: State, Local, Or Tribal Government.

Number of Respondents: 53.

Frequency of Responses: Recordkeeping; Reporting: Weekly; Monthly.

Total Burden Hours: 60,191.

Food and Nutrition Service

Title: Senior Farmers' Market Nutrition Program.

OMB Control Number: 0584-0541.

Summary of Collection: The Senior Farmers' Market Nutrition Program (SFMNP) authorized by Section 4402 of Public Law 107-711, the Farm Security and Rural Investment Act of 2002, 7 U.S.C. 3007, the Food Conservation and Energy Act of 2008, Public Law 110-246, reauthorized the SFMNP through Fiscal Year 2012. The purposes of the SFMNP are to provide resources in the form of fresh, nutritious, unprepared locally grown fruits, vegetables, honey and herbs from farmer's markets, roadside stands, and community supported agriculture (CSA) programs to low-income seniors; to increase the domestic consumption of agricultural commodities by expanding or aiding in the expansion of domestic farmers' markets, roadside stands, and CSA programs. The SFMNP is designed to be administered in a manner consistent with the administration of the WIC Farmers Market Nutrition Program whenever possible.

Need and Use of the Information: The financial information is collected on the FNS-683-A, “Senior Farmers' Market Nutrition Program Annual Financial and Program Data Report” and is submitted annually to the Food and Nutrition Service (FNS) by participating SFMNP State agencies. The information is used to reconcile and close out grants in accordance with the requirements of § 3016.23(b) and § 3016.41(a)(1). FNS will also collect information to assess how each State agency operates and to ensure the accountability of State agencies, local agencies, and authorized farmers/farmers' markets, roadside stands, and CSA programs in administering the SFMNP.

Description of Respondents: State, Local, or Tribal Government; Farms; Individuals or households; Business or other for-profit; Not for-profit institutions.

Number of Respondents: 970,142.

Frequency of Responses: Recordkeeping; Report: Annually.

Total Burden Hours: 497,778.

Ruth Brown,
Departmental Information Collection Clearance Officer.

[FR Doc. 2010-1543 Filed 1-26-10; 8:45 am]

BILLING CODE 3410-P